DEPARTMENT OF TRANSPORTATION

Federal Aviation Administration

Notice of Intent To Rule on Application No. 03-04-C-00-ICT To Impose and Use the Revenue From a Passenger Facility Charge (PFC) at Wichita Mid-Continent Airport, Wichita, KS

AGENCY: Federal Aviation Administration, (FAA), DOT.

ACTION: Notice of intent to rule on application.

SUMMARY: The FAA proposes to rule and invites public comment on the application to impose and invites public comment on the application to impose and use the revenue from a PFC at Wichita Mid-Continent Airport under the provisions of the Aviation Safety and Capacity Expansion Act of 1990 (Title IX of the Omnibus Budget Reconciliation Act of 1990) (Pub. L. 101-508) and part 158 of the Federal Aviation Regulations (14 CFR part 158).

DATES: Comments must be received on or before August 1, 2003.

ADDRESSES: Comments on this application may be mailed or delivered in triplicate to the FAA at the following address: Federal Aviation Administration, Central Region, Airports Division, 901 Locust, Kansas City, MO 64106.

In addition, one copy of any comments submitted to the FAA must be mailed or delivered to Mr. Bailis F. Bell, Director of Airports, at the following address: Wichita Airport Authority, 2173 Air Cargo Road, Wichita, Kansas 67209.

Air carriers and foreign air carriers may submit copies of written comments previously provided to the Wichita Airport Authority, under § 158.23 of Part 158.

FOR FURTHER INFORMATION CONTACT: Lorna Sandridge, PFC Program Manager, FAA, Central Region, 901 Locust, Kansas City, MO 64106, (816) 329-2641. The application may be reviewed in person at this same location.

SUPPLEMENTARY INFORMATION: The FAA proposes to rule and invites public comment on the application to impose and use the revenue from a PFC at the Wichita Mid-Continent Airport under the provisions of the Aviation Safety and Capacity Expansion Act of 1990 (Title IX of the Omnibus Budget Reconciliation Act of 1990) (Pub. L. 101-508) and part 158 of the Federal Aviation Regulations (14 CFR part 158).

On June 20, 2003, the FAA determined that the application to impose and use the revenue from a PFC submitted by the Wichita Airport Authority, was substantially complete within the requirements of § 158.25 of part 158. The FAA will approve or disapprove the application, in whole or in part, no later than September 18, 2003.

The following is a brief overview of the application.

Level of the proposed PFC: $3.00.

Proposed charge effective date: November 1, 2003.

Proposed charge expiration date: September 1, 2007.

Total estimated PFC revenue: $9,470,000.

Brief description of proposed projects: Runway and taxiway shoulders/blast pad rehabilitation; south air cargo apron and road reconstruction; north air cargo apron construction (phase IV); perimeter service and security road rehabilitation; general aviation ramp reconstruction (phases I and II); north general aviation ramp reconstruction; north T-hanger complex pavement rehabilitation; pavement condition inventory; airport access road rehabilitation; Mid-Continent Drive bridge rehabilitation; security gate entrance driveway reconstruction; Terminal Loop Road rehabilitation; runway liquid materials spreader; snow sweeper/blower; snow removal equipment; airfield sweeper truck replacement; mobile stair truck; two disabled passenger boarding assistance devices; two aircraft rescue fire fighting (ARFF) vehicles replacements; ARFF quick response vehicle; electrical vault flood protection; guard stations; terminal restroom remodel; loading bridge program; terminal area planning study; master plan update.

Any person may inspect the application in person at the FAA office listed above under FOR FURTHER INFORMATION CONTACT.

In addition, any person may, upon request, inspect the application, notice and other documents germane to the application in person at the Wichita Mid-Continent Airport.

Issued in Kansas City, Missouri on June 23, 2003.
George A. Hendon,
Manager, Airports Division, Central Region.

[FR Doc. 03-16645 Filed 7-1-03; 8:45 am]

BILLING CODE 4910-13-M